DEPARTMENT OF THE INTERIOR

Fish and Wildlife Service

[FWS-R4-ES-2021-N190; FXES11140400000-201-FF04E00000]

Endangered Species; Recovery Permit Applications

AGENCY: Fish and Wildlife Service, Interior.

ACTION: Notice of receipt of permit applications; request for comments.

SUMMARY: We, the U.S. Fish and Wildlife Service, have received applications for permits, permit renewals, and/or permit amendments to conduct activities intended to enhance the propagation or survival of endangered species under the Endangered Species Act of 1973, as amended. We invite the public and local, State, Tribal, and Federal agencies to comment on these applications. Before issuing any of the requested permits, we will take into consideration any information that we receive during the public comment period.

DATES: We must receive written data or comments on the applications by December 3, 2021.

ADDRESSES: Reviewing Documents: Documents and other information submitted with the applications are available for review, subject to the requirements of the Privacy Act and Freedom of Information Act. Submit a request for a copy of such documents to Karen Marlowe (see FOR FURTHER INFORMATION CONTACT).

Submitting Comments: If you wish to comment, you may submit comments by one of the following methods:

• U.S. mail: U.S. Fish and Wildlife Service Regional Office, Ecological Services, 1875 Century Boulevard, Atlanta, GA 30345 (Attn: Karen Marlowe, Permit Coordinator).

• Email: permitsR4ES@fws.gov. Please include your name and return address in your email message. If you do not receive a confirmation from the U.S. Fish and Wildlife Service that we have received your email message, contact us directly at the telephone number listed in FOR FURTHER INFORMATION CONTACT.

FOR FURTHER INFORMATION CONTACT: Karen Marlowe, Permit Coordinator, 404-679-7097 (telephone), karen_marlowe@fws.gov (email), or 404-679-7081 (fax). Individuals who are hearing or speech impaired may call the Federal Relay Service at 1-800-877-8339 for TTY assistance.

SUPPLEMENTARY INFORMATION: We invite review and comment from the public and local, State, Tribal, and Federal agencies on applications we have received for permits to conduct certain activities with endangered and threatened species under section 10(a)(1)(A) of the Endangered Species Act of 1973, as amended (ESA; 16 U.S.C. 1531 et seq.), and our regulations in the Code of Federal Regulations (CFR) at 50 CFR part 17. With some exceptions, the ESA prohibits take of listed species unless a Federal permit is issued that authorizes such take. The ESA's definition of “take” includes hunting, shooting, harming, wounding, or killing, and also such activities as pursuing, harassing, trapping, capturing, or collecting.

A recovery permit issued by us under section 10(a)(1)(A) of the ESA authorizes the permittee to take endangered or threatened species while engaging in activities that are conducted for scientific purposes that promote recovery of species or for enhancement of propagation or survival of species. These activities often include the capture and collection of species, which would result in prohibited take were a permit not issued. Our regulations implementing section 10(a)(1)(A) for these permits are found at 50 CFR 17.22 for endangered wildlife species, 50 CFR 17.32 for threatened wildlife species, 50 CFR 17.62 for endangered plant species, and 50 CFR 17.72 for threatened plant species.

Permit Applications Available for Review and Comment

Proposed activities in the following permit requests are for the recovery and enhancement of propagation or survival of the species in the wild. The ESA requires that we invite public comment before issuing these permits. Accordingly, we invite local, State, Tribal, and Federal agencies and the public to submit written data, views, or arguments with respect to these applications. The comments and recommendations that will be most useful and likely to influence agency decisions are those supported by quantitative information or studies.

Before including your address, phone number, email address, or other personal identifying information in your comment, you should be aware that your entire comment—including your personal identifying information—may be made publicly available at any time. While you can ask us in your comment to withhold your personal identifying information from public review, we cannot guarantee that we will be able to do so.

Permit application No. | Applicant | Species | Location | Activity | Type of take | Permit action
TE 25612A-2 | Stephen Samoray, Nashville, TN | Gray bat (Myotis grisescens), Indiana bat (Myotis sodalis), northern long-eared bat (Myotis septentrionalis),Ozark big-eared bat (Corynorhinus (=Plecotus) townsendii ingens), and Virginia big-eared bat (Corynorhinus (=Plecotus) townsendii virginianus) | Alabama, Arkansas, Connecticut, Delaware, District of Columbia, Georgia, Illinois, Indiana, Iowa, Kansas, Kentucky, Louisiana, Maine, Maryland, Massachusetts, Michigan, Minnesota, Mississippi, Missouri, Montana, Nebraska, New Hampshire, New Jersey, New York, North Carolina, North Dakota, Ohio, Oklahoma, Pennsylvania, Rhode Island, South Carolina, South Dakota, Tennessee, Vermont, Virginia, West Virginia, Wisconsin, and Wyoming | Presence/absence surveys, studies to document habitat use, and population monitoring | Enter hibernacula or maternity roost caves, capture with mist nets or harp traps, handle, identify, band, radio-tag, light-tag, swab, wing-punch, and collect hair samples | Renewal.
TE 06337C-1 | Zachary Loughman, West Liberty University, West Liberty, WV | Big Sandy crayfish (Cambarus callainus), Guyandotte River crayfish (Cambarus veteranus) | Kentucky, Virginia, West Virginia | Development of genetic management plan and study of movements in response to anthropogenic structures and activities | Collect gill samples and radio-tag | Amendment.
TE 834070-4 | Point Defiance Zoo and Aquarium, Tacoma, WA | Red wolf (Canis rufus) | Washington | Study genetic predisposition to hyperthermia | Collect tissues from deceased individuals | Amendment.
TE 114069-4 | Fairchild Tropical Botanic Garden, Coral Gables, FL | Florida semaphore cactus (Consolea corallicola) | Biscayne National Park, Florida | Artificial propagation and research | Collect seeds and cuttings | Amendment.
TE 079972-4 | Eric Baka, Louisiana Department of Wildlife and Fisheries, Pineville, LA | Red-cockaded woodpecker (Picoides borealis) | Arkansas, Louisiana, Oklahoma, and Texas | Population management and monitoring | Capture, band, monitor nest cavities, construct and monitor artificial nest cavities and restrictors, and translocate | Renewal.
TE 86220A-3 | Jaret Daniels, Florida Museum of Natural History, Gainesville, FL | Miami blue butterfly (Cyclargus (=Hemiargus) thomasi bethunebakeri), Schaus swallowtail butterfly (Heraclides aristodemus ponceanus) | Florida | Propagation for research and reintroduction | Capture with hand-nets, mark, collect eggs and larvae, take wing fragments, and release | Renewal/Amendment.
PER 0012943 | Texas A&M Natural Resources Institute, San Antonio, TX | Silver rice rat (Oryzomys palustris natator) | Naval Air Station Key West, Florida | Population status survey | Capture and release | New.
PER 0013650 | Bureau of Land Management-Jupiter Inlet Lighthouse ONA, Jupiter, FL | Florida perforate cladonia (Cladonia perforata) | Jupiter Inlet Lighthouse Outstanding Natural Area, Palm Beach County, Florida | Genetic research | Collect thalli | New.
TE 091705-4 | North Carolina Botanical Garden, Chapel Hill, NC | Aeschynomene virginica, Amaranthus pumilus, Arabis serotina, Betula uber, Carex lutea, Echinacea laevigata, Geum radiatum, Gymnoderma lineare, Hedyotis purpurea var. montana, Helianthus schweinitzii, Helonias bullata, Hexastylis naniflora, Hudsonia montana, Liatris helleri, Lysimachia asperulifolia, Oxypolis canbyi, Pityopsis ruthii, Ptilimnium nodosum, Rhus michauxii, Sagittaria fasciculata, Sagittaria secundifolia, Sarracenia jonesii, Sarracenia oreophila, Schwalbea americana, Scutellaria montana, Sisyrinchium dichotomum, Solidago spithamaea, Spiraea virginiana, Thalictrum cooleyi, and Trifolium stoloniferum | Federal lands in Alabama, Connecticut, Delaware, Florida, Georgia, Maryland, Massachusetts, New Jersey, New York, North Carolina, Rhode Island, South Carolina, Tennessee, Virginia, and West Virginia | Ex situ seed banking, artificial propagation, conservation research, educational display, and genetic analyses | Collection of seeds, sporocarps, and cuttings | Renewal.
PER 0013669 | Alyssa Jones, Huntington, WV | Mussels: Clubshell (Pleurobema clava), cracking pearlymussel (Hemistena lata), Cumberland combshell (Epioblasma brevidens), dromedary pearlymussel (Dromas dromas), fanshell (Cyprogenia stegaria), fat pocketbook (Potamilus capax), James spinymussel (Pleurobema collina), northern riffleshell (Epioblasma rangiana), oyster mussel (Epioblasma capsaeformis), pink mucket (Lampsilis abrupta), rabbitsfoot (Quadrula cylindrica cylindrica), rayed bean (Villosa fabalis), ring pink (Obovaria retusa), rough pigtoe (Pleurobema plenum), sheepnose (Plethobasus cyphyus), snuffbox (Epioblasma triquetra), and spectaclecase (Cumberlandia monodonta); rusty patched bumble bee (Bombus affinis); and Roanoke logperch (Percina rex) | Mussels: Alabama, Arkansas, Georgia, Illinois, Indiana, Iowa, Kansas, Kentucky, Louisiana, Michigan, Minnesota, Mississippi, Missouri, Nebraska, North Carolina, New York, Ohio, Oklahoma, Pennsylvania, Tennessee, Virginia, West Virginia, and Wisconsin; Rusty patch bumble bee: Connecticut, Delaware, Georgia, Illinois, Indiana, Iowa, Kentucky, Maine, Maryland, Massachusetts, Michigan, Minnesota, Mississippi, New Hampshire, New Jersey, New York, North Carolina, North Dakota, Ohio, Pennsylvania, Rhode Island, South Carolina, South Dakota, Tennessee, Vermont, Virginia, West Virginia, and Wisconsin; Roanoke logperch: North Carolina and Virginia | Presence/absence surveys | Capture, handle, and release | New.
TE 83013B-1 | Kathleen McDaniel, Syracuse, NY | Indiana bat (Myotis sodalis) and northern long-eared bat (Myotis septentrionalis) | Alabama, Arkansas, Connecticut, Delaware, Georgia, Illinois, Indiana, Iowa, Kansas, Kentucky, Louisiana, Maine, Maryland, Massachusetts, Mississippi, Missouri, Montana, Nebraska, New Hampshire, New Jersey, New York, North Carolina, North Dakota, Ohio, Oklahoma, Pennsylvania, Rhode Island, South Carolina, South Dakota, Tennessee, Vermont, Virginia, West Virginia, Wisconsin, and Wyoming | Presence/absence surveys, population monitoring, and studies to document habitat use | Enter hibernacula or maternity roost caves, capture with mist nets or harp traps, handle, identify, band, radio-tag, and collect hair samples | Renewal.
TE 02166C-2 | Zoe Bryant, Medford, NJ | Indiana bat (Myotis sodalis), northern long-eared bat (Myotis septentrionalis), and gray bat (Myotis grisescens) | Alabama, Arkansas, Connecticut, Delaware, Georgia, Illinois, Indiana, Iowa, Kansas, Kentucky, Louisiana, Maine, Maryland, Massachusetts, Michigan, Minnesota, Mississippi, Missouri, Montana, Nebraska, New Hampshire, New Jersey, New York, North Carolina, North Dakota, Ohio, Oklahoma, Pennsylvania, Rhode Island, South Carolina, South Dakota, Tennessee, Vermont, Virginia, West Virginia, Wisconsin, and Wyoming | Presence/absence surveys | Capture with mist nets or harp traps, handle, identify, band, and radio-tag | Renewal.
TE 007748-6 | USDA Forest Service, Kisatchie National Forest, Pineville, LA | Red-cockaded woodpecker (Picoides borealis), Louisiana pinesnake (Pituophis ruthveni), and Louisiana pearlshell (Margaritifera hembeli) | Red-cockaded woodpecker: Alabama, Arkansas, Florida, Georgia, Kentucky, Louisiana, Mississippi, North Carolina, South Carolina, and Tennessee; Louisiana pinesnake: Louisiana and Texas; Louisiana pearlshell: Louisiana | Population management and monitoring; presence/absence surveys; captive propagation and reintroduction; disease surveillance; research on range, habitat, behavior, and management requirements; and genetic analyses | Red-cockaded woodpecker: Capture, band, monitor nest cavities, construct and monitor artificial nest cavities and restrictors, translocate, and recapture; Louisiana pine snake: Capture, handle, measure, weigh, sex via cloacal probe or everting hemipenes, PIT-tag, scale-clip, cauterize, swab, gastric wash, and hold temporarily in captivity to collect samples (blood, fecal, and shed skin); Louisiana pearlshell: Capture, handle, and release | Renewal/Amendment.
TE 136808-4 | Loggerhead Marinelife Center, Juno Beach, FL | Olive ridley sea turtle (Lepidochelys olivacea), green sea turtle (Chelonia mydas), hawksbill sea turtle (Eretmochelys imbricata), loggerhead sea turtle (Caretta caretta), leatherback sea turtle (Dermochelys coriacea), Kemp's ridley sea turtle (Lepidochelys kempii) | Florida | Research on survival of rehabilitated turtles and on microbial changes as a result of treatment | Collect blood, cloacal specimens, colonic specimens, and mesenchymal stem cells; PIT-tag; flipper tag; and attach satellite transmitter prior to release | Renewal/Amendment.
TE 125557-3 | Barbara Allen, Mobile, AL | Alabama beach mouse (Peromyscus polionotus ammobates) and Perdido Key beach mouse (Peromyscus polionotus trissyllepsis) | Alabama | Presence/absence surveys | Capture, mark, examine, and release | Renewal.
PER 0018443 | US Army Engineer Research & Development Center, Vicksburg, MS | Fish: Pallid sturgeon (Scaphirhynchus albus); Mussels: Fat threeridge (Amblema neislerii), Chipola slabshell (Elliptio chipolaensis), purple bankclimber (Elliptoideus sloatianus), shinyrayed pocketbook (Hamiota subangulata), pink mucket (Lampsilis abrupta), orangefoot pimpleback (Plethobasus cooperianus), sheepnose (Plethobasus cyphyus), oval pigtoe (Pleurobema pyriforme), fat pocketbook (Potamilus capax), Alabama heelsplitter (=inflated) (Potamilus inflatus), and rabbitsfoot (Quadrula cylindrica cylindrica) | Arkansas, Florida, Illinois, Indiana, Kentucky, Louisiana, Mississippi, Missouri, Ohio, Tennessee, and West Virginia | Presence/absence surveys and population monitoring | Pallid sturgeon: Capture, handle, PIT-tag, insert internal or external telemetry tag, and release; Mussels: Capture, handle, and release | New.
PER 0018626 | Timothy Black, Wake Forest, NC | Florida bonneted bat (Eumops floridanus), Indiana bat (Myotis sodalis), northern long-eared bat (Myotis septentrionalis), gray bat (Myotis grisescens), and Virginia big-eared bat (Corynorhinus townsendii virginianus) | Alabama, Arkansas, Florida, Georgia, Kentucky, Louisiana, Mississippi, North Carolina, South Carolina, and Tennessee | Presence/absence surveys and counts | Use of unmanned aircraft systems to assist survey efforts | New.
TE 56588D-2 | Martin Melville, Marietta, GA | Reptiles: Eastern indigo snake (Drymarchon corais couperi); Amphibians: reticulated flatwoods salamander (Ambystoma bishopi) and frosted flatwoods salamander (Ambystoma cingulatum); Fish: Carolina madtom (Noturus furiosus), Cape Fear shiner (Notropis mekistocholas), Roanoke logperch (Percina rex), and Waccamaw silverside (Menidia extensa); and Mussels: James spinymussel (Pleurobema collina) | Georgia and North Carolina | Presence/absence surveys | Capture, handle, identify, and release | Amendment.
TE 061005-3 | International Carnivorous Plant Society, Inc., Walnut Creek, CA | Godfrey's butterwort (Pinguicula ionantha), Alabama cane break pitcher (Sarracenia rubra ssp. alabamensis), green pitcher-plant (Sarracenia oreophila), and Mountain sweet pitcher-plant (Sarracenia rubra ssp. jonesii) | California | Interstate commerce | Sell in interstate commerce | Renewal.
TE 156392-4 | Skybax Ecological Services, LLC, Berea, KY | Gray bat (Myotis grisescens), Indiana bat (Myotis sodalis), northern long-eared bat (Myotis septentrionalis), and Virginia big-eared bat (Corynorhinus townsendii virginianus) | Alabama, Arkansas, Connecticut, Delaware, District of Columbia, Florida, Georgia, Illinois, Indiana, Iowa, Kansas, Kentucky, Louisiana, Maine, Maryland, Massachusetts, Michigan, Minnesota, Mississippi, Missouri, Montana, Nebraska, New Hampshire, New Jersey, New York, North Carolina, North Dakota, Ohio, Oklahoma, Pennsylvania, Rhode Island, South Carolina, South Dakota, Tennessee, Vermont, Virginia, West Virginia, Wisconsin, and Wyoming | Presence/absence surveys and population monitoring | Enter hibernacula and maternity roost caves, capture with mist nets or harp traps, handle, identify, band, radio-tag, and collect hair | Renewal.
TE 60238B-1 | Georgia Museum of Natural History, Athens, GA | Blue shiner (Cyprinella caerulea), Etowah darter (Etheostoma etowahae), Cherokee darter (Etheostoma scotti), trispot darter (Etheostoma trisella), amber darter (Percina antesella), goldline darter (Percina aurolineata), and Conasauga logperch (Percina jenkinsi) | Georgia and Tennessee | Presence/absence surveys | Capture, handle, fin-clip, and release | Renewal/Amendment.
TE 178815-1 | Kentucky Department of Fish and Wildlife Resources, Frankfort, KY | Spectaclecase (mussel) (Cumberlandia monodonta), oyster mussel (Epioblasma capsaeformis), tan riffleshell (Epioblasma florentina walkeri (=E. walkeri)) snuffbox mussel (Epioblasma triquetra), birdwing pearlymussel (Lemiox rimosus), slabside pearlymussel (Pleuronaia dolabelloides), fluted kidneyshell (Ptychobranchus subtentus), rough rabbitsfoot (Quadrula cylindrica strigillata), Appalachian monkeyface (pearlymussel) (Quadrula sparsa), rayed bean (Villosa fabalis), and Cumberland bean (pearlymussel) (Villosa trabalis) | Alabama, Georgia, Illinois, Indiana, Kentucky, Maryland, Mississippi, New York, North Carolina, Ohio, Pennsylvania, Tennessee, Virginia, and West Virginia | Captive propagation, research, and reintroduction | Capture, handle, transport, propagate, tag, release, and salvage relict shells | Renewal/Amendment.

Authority

We publish this notice under section 10(c) of the Endangered Species Act of 1973, as amended (16 U.S.C. 1531 et seq.).

John Tirpak,
Deputy Assistant Regional Director, Ecological Services.

[FR Doc. 2021-23958 Filed 11-2-21; 8:45 am]

BILLING CODE 4333-15-P